DEPARTMENT OF ENERGY

Federal Energy Regulatory Commission

[Project No. 9842-006]

Mr. Ray F. Ward; Application Tendered for Filing With the Commission and Soliciting Additional Study Requests and Establishing Procedural Schedule for Relicensing and a Deadline for Submission of Final Amendments

Take notice that the following hydroelectric application has been filed with the Commission and is available for public inspection.

a. Type of Application: Minor New License.

b. Project No.: 9842-006.

c. Date filed: August 28, 2014.

d. Applicant: Mr. Ray F. Ward.

e. Name of Project: Ward Mill Hydroelectric Project.

f. Location: On the Watauga River, in the Township of Laurel Creek, Watauga County, North Carolina. The project does not occupy lands of the United States.

g. Filed Pursuant to: Federal Power Act 16 U.S.C. 791 (a)-825(r).

h. Applicant Contact: Andrew C. Givens, Cardinal Energy Service, Inc., 620 N. West St., Suite 103, Raleigh, North Carolina 27603, (919) 834-0909.

i. FERC Contact: Adam Peer at (202) 502-8449, adam.peer@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: October 27, 2014

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-9842-006.

m. The application is not ready for environmental analysis at this time.

n. The Ward Mill Project consists of: (1) An existing 130-foot-long by 20-foot-high dam; (2) An existing 4.6 acre reservoir with an estimated gross storage capacity of 16.3 acre-feet; (3) a 14-foot-long, 5-foot-wide, and 7.5-foot-tall penstock made of rock, concrete and reinforced steel; (4) a powerhouse containing two generating units for a total installed capacity of 168 kilowatts; (5) existing transmission facilities; and (6) appurtenant facilities. The project is estimated to generate from below 290,000 to over 599,000 kilowatt-hours annually. The dam and existing facilities are owned by the applicant. No new project facilities are proposed.

o. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. Procedural schedule and final amendments: The application will be processed according to the following preliminary Hydro Licensing Schedule. Revisions to the schedule will be made as appropriate.

Issue Acceptance or Deficiency Letter October 2014

Request Additional Information October 2014

Issue Notice of Acceptance January 2015

Issue Scoping Document 1 for comments February 2015

Comments on Scoping Document 1 April 2015

Issue Scoping Document 2 May 2015

Issue notice of ready for environmental analysis May 2015

Commission issues EA January 2016

Comments on EA February 2016

Final amendments to the application must be filed with the Commission no later than 30 days from the issuance date of the notice of ready for environmental analysis.

Dated: September 10, 2014.
Kimberly D. Bose,
Secretary.

[FR Doc. 2014-22096 Filed 9-16-14; 8:45 am]

BILLING CODE 6717-01-P